DEPARTMENT OF COMMERCE

National Oceanic and Atmospheric Administration

Science Advisory Board

AGENCY: Office of Oceanic and Atmospheric Research (OAR), National Oceanic and Atmospheric Administration (NOAA), Department of Commerce (DOC).

ACTION: Notice of open meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Time and Date: The meeting will be held Wednesday, March 12, 2008, from 8:30 a.m. to 5:15 p.m. and Thursday, March 13, 2008, from 8:30 a.m. to 5:30 p.m. These times and the agenda topics described below are subject to change. Please refer to the Web page: http://www.sab.noaa.gov/Meetings/meetings.html for the most up-to-date meeting agenda.

Place: The meeting will be held both days at the Hilton Washington DC/Silver Spring, 8727 Colesville Road, Silver Spring, MD 20910. Please check the SAB Web site http://www.sab.noaa.gov for confirmation of the venue.

Status: The meeting will be open to public participation with a 30-minute public comment period on March 12 (check Web site to confirm time). The SAB expects that public statements presented at its meetings will not be repetitive of previously submitted verbal or written statements. In general, each individual or group making a verbal presentation will be limited to a total time of five (5) minutes. Written comments should be received in the SAB Executive Director's Office by March 7, 2008 to provide sufficient time for SAB review. Written comments received by the SAB Executive Director after March 7, 2008, will be distributed to the SAB, but may not be reviewed prior to the meeting date. Seats will be available on a first-come, first-served basis.

Matters To Be Considered: The meeting will include the following topics: (1) Draft Report from the Working Group to Examine Advisory Options for Improving Communications among NOAA's Partners (Partnerships WG or PWG); (2) Final Report from the Extension, Outreach & Education Working Group (EOEWG); (3) Report on the Final Results from the Ocean Exploration Advisory Working Group workshops; (4) NOAA Response to the SAB High-Performance Computing Recommendations and the Way Forward; (5) Discussion of a proposed SAB standing working group on ecosystems; (6) NOAA Monitoring Research Committee process updates and SAB Benchmark Review Discussion; (7) Discussion of SAB Strategic Planning; (8) the Census of Marine Life (CoML) Program; (9) the NOAA Hydrographic Services Review Panel; (10) results of the Review of the NOAA Coral Reef Conservation Program; (11) Report on NOAA Activities in Support of the International Year of the Reef (IYR); (12) Report on NOAA Activities in Support of the International Polar Year (IPY); and (13) the National Academy of Sciences (NAS) Board on Atmospheric Sciences and Climate (BASC).

FOR FURTHER INFORMATION CONTACT: Dr. Cynthia Decker, Executive Director, Science Advisory Board, NOAA, Rm. 11230, 1315 East-West Highway, Silver Spring, Maryland 20910. (Phone: 301-734-1156, Fax: 301-713-1459, E-mail: Cynthia.Decker@noaa.gov); or visit the NOAA SAB Web site at: http://www.sab.noaa.gov.

Dated: February 13, 2008.
Mark Brown,
Chief Financial Officer, Office of Oceanic and Atmospheric Research, National Oceanic and Atmospheric Administration.

[FR Doc. E8-3259 Filed 2-20-08; 8:45 am]

BILLING CODE 3510-KD-P